DEPARTMENT OF HEALTH AND HUMAN SERVICES

National Institutes of Health

National Eye Institute; Notice of Closed Meetings

Pursuant to section 10(d) of the Federal Advisory Committee Act, as amended (5 U.S.C. App.), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Eye Institute Special Emphasis Panel, NEI Anterior Eye and Glaucoma Grant Applications.

Date: December 1, 2014.

Time: 1:00 p.m. to 2:30 p.m.

Agenda: To review and evaluate grant applications.

Place: National Institutes of Health, Suite 1300, 5635 Fishers Lane, Bethesda, MD 20892 (Telephone Conference Call).

Contact Person: Brian Hoshaw, Ph.D., Scientific Review Officer, National Eye Institute, National Institutes of Health, Division of Extramural Research, 5635 Fishers Lane, Suite 1300, Rockville, MD 20892; 301-451-2020; hoshawb@mail.nih.gov

Name of Committee: National Eye Institute Special Emphasis Panel, NEI Pediatric, Glaucoma and Neuro-Ophthalmology Grant Applications.

Date: December 3, 2014.

Time: 1:00 p.m. to 2:00 p.m.

Agenda: To review and evaluate grant applications.

Place: National Institutes of Health, 5635 Fishers Lane, Suite 1300, Bethesda, MD 20892 (Telephone Conference Call).

Contact Person: Brian Hoshaw, Ph.D., Scientific Review Officer, National Eye Institute, National Institutes of Health, Division of Extramural Research, 5635 Fishers Lane, Suite 1300, Rockville, MD 20892; 301-451-2020; hoshawb@mail.nih.gov.

Name of Committee: National Eye Institute Special Emphasis Panel, NEI Retinal Disease Epigenetic Grant Applications.

Date: December 5, 2014.

Time: 2:00 p.m. to 6:00 p.m.

Agenda: To review and evaluate grant applications.

Place: National Institutes of Health, 5635 Fishers Lane, Suite 1300, Bethesda, MD 20892 (Telephone Conference Call).

Contact Person: Jeanette M. Hosseini, Ph.D., Scientific Review Officer, National Eye Institute, National Institutes of Health, Division of Extramural Research, 5635 Fishers Lane, Suite 1300, Rockville, MD 20892; 301-451-2020; hoshawb@mail.nih.gov.

Name of Committee: National Eye Institute Special Emphasis Panel, NEI Audacious Goal Initiative RFA—U01 Grant Applications.

Date: December 11, 2014.

Time: 8:30 a.m. to 5:00 p.m.

Agenda: To review and evaluate grant applications.

Place: National Institutes of Health, 5635 Fishers Lane, Suite 1300, Bethesda, MD 20892 (Telephone Conference Call).

Contact Person: Anne Schaffner, Ph.D., Chief, Scientific Review Branch, National Eye Institute, National Institutes of Health, Division of Extramural Research, 5635 Fishers Lane, Suite 1300, Rockville, MD 20892; 301-451-2020; hoshawb@mail.nih.gov.

(Catalogue of Federal Domestic Assistance Program Nos. 93.867, Vision Research, National Institutes of Health, HHS)

Dated: November 6, 2014.
Melanie J. Gray,
Program Analyst, Office of Federal Advisory Committee Policy.

[FR Doc. 2014-26752 Filed 11-12-14; 8:45 am]

BILLING CODE 4140-01-P